DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of December 3, 2012 through December 7, 2012.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W No. | Subject firm | Location | Impact date
81,923 | GE Lighting, Inc., Ohio Lamp Plant, Including Workers From OSS, Inc | Warren, OH | October 30, 2011.
81,923A | Randstad Working On-Site at GE Lighting, Inc., Ohio Lamp Plant | Warren, OH | August 24, 2011.
82,078 | Amsted Rail Co., Inc., Kelly Services, Accountemps & Office Team, Partners Personnel, etc | Granite City, IL | October 12, 2011.
82,157 | Henkel-Harris Company, Inc., Manpower and Spherion Staffing LLC | Winchester, VA | November 14, 2011.

The following certifications have been issued. The requirements of Section 222(a)(2)(B) (shift in production or services) of the Trade Act have been met.

TA-W No. | Subject firm | Location | Impact date
81,968 | Verizon Business Networks Services, Inc., Senior Analysts-Sales Implementation (SA-SI) | Birmingham, AL | September 13, 2011.
81,968A | Verizon Business Networks Services, Inc., Senior Analysts-Sales Implementation (SA-SI), Service Program Delivery | San Francisco, CA | September 13, 2011.
82,033 | Avaya, Inc., Avaya Client Services (ACS) Portfolio and Operations | Westminster, CO | October 1, 2011.
82,033A | Avaya, Inc., Avaya Client Services (ACS) Portfolio and Operations | Highlands Ranch, CO | October 1, 2011.
82,033B | Avaya, Inc., Avaya Client Services (ACS) Portfolio and Operations | Carrollton, TX | October 1, 2011.
82,064 | AT&T Services, Inc., Information Technology Operations, Global Systems Hosting Application & Service Management | Hoover and Mobile, AL | September 13, 2011.
82,064A | AT&T Services, Inc., Information Technology Operations, Global Systems Hosting Application & Service Management | Dublin and Seven Other Cities, CA | September 13, 2011.
82,064B | AT&T Services, Inc., Information Technology Operations, Global Systems Hosting Application & Service Management | New Haven and Norwalk, CT | September 13, 2011.
82,064C | AT&T Services, Inc., Information Technology Operations, Global Systems Hosting Application & Service Management | Lake Mary, Miami, and Orlando, FL | September 13, 2011.
82,064D | AT&T Services, Inc., Information Technology Operations, Global Systems Hosting Application & Service Management | Alpharetta and Atlanta, GA | September 13, 2011.
82,064E | AT&T Services, Inc., Information Technology Operations, Global Systems Hosting Application & Service Management | Chicago, Hoffman Estates, and Peoria, IL | September 13, 2011.
82,064F | AT&T Services, Inc., Information Technology Operations, Global Systems Hosting Application & Service Management | Indianapolis, IN | September 13, 2011.
82,064G | AT&T Services, Inc., Information Technology Operations, Global Systems Hosting Application & Service Management | Framingham, MA | September 13, 2011.
82,064H | AT&T Services, Inc., Information Technology Operations, Global Systems Hosting Application & Service Management | Hanover, MD | September 13, 2011.
82,064I | AT&T Services, Inc., Information Technology Operations, Global Systems Hosting Application & Service Management | Southfield, MI | September 13, 2011.
82,064J | AT&T Services, Inc., Information Technology Operations, Global Systems Hosting Application & Service Management | Ballwin, Kansas City, and Saint Louis, MO | September 13, 2011.
82,064K | AT&T Services, Inc., Information Technology Operations, Global Systems Hosting Application & Service Management | Charlotte, NC | September 13, 2011.
82,064L | AT&T Services, Inc., Information Technology Operations, Global Systems Hosting Application & Service Management | Bedminster and Six Others, NJ | September 13, 2011.
82,064M | AT&T Services, Inc., Information Technology Operations, Global Systems Hosting Application & Service Management | Akron, Brecksville, and Canton, OH | September 13, 2011.
82,064N | AT&T Services, Inc., Information Technology Operations, Global Systems Hosting Application & Service Management | Oklahoma City, OK | September 13, 2011.
82,064O | AT&T Services, Inc., Information Technology Operations, Global Systems Hosting Application & Service Management | King of Prussia and Philadelphia, PA | September 13, 2011.
82,064P | AT&T Services, Inc., Information Technology Operations, Global Systems Hosting Application & Service Management | Allen and Seven Others, TX | September 13, 2011.
82,064Q | AT&T Services, Inc., Information Technology Operations, Global Systems Hosting Application & Service Management | Spokane Valley, WA | September 13, 2011.
82,064R | AT&T Services, Inc., Information Technology Operations, Global Systems Hosting Application & Service Management | Waukesha, WI | September 13, 2011.
82,064S | AT&T Services, Inc., Information Technology Operations, Global Systems Hosting Application & Service Management | Triadelphia, WV | September 13, 2011.
82,068 | Stanadyne Corporation, Windsor Division, Infinistaff | Windsor, CT | October 10, 2011.
82,080 | International Business Machines (IBM), Integrated Technology Services Ops, GTS Business Operations (GTS), Manpower | Armonk, NY | October 11, 2011.
82,093 | Korean Air Line Company LTD., American Regional Headquarters Call Center Division, Seoul of Korean Air | Los Angeles, CA | October 17, 2011.
82,125 | Honeywell International, Inc., Sensing and Control, Manpower and GDKN | Mars Hill, NC | October 24, 2011.
82,128 | SST Truck Company, LLC, Navistar, Inc., Employee Solutions, Populus, & ODW Contract Services | Garland, TX | November 2, 2011.
82,132 | Lattice Semiconductor Corporation, Infrastructure Business Unit | Hillsboro, OR | November 2, 2011.
82,132A | Lattice Semiconductor Corporation, Sales Department, Excluding Customer Service | Hillsboro, OR | November 2, 2011.
82,132B | Lattice Semiconductor Corporation, Finance Department, Bolly Welch, Resources Connection, Slalom, etc | Hillsboro, OR | November 2, 2011.
82,132C | Lattice Semiconductor Corporation, Corporate Marketing Department | Hillsboro, OR | November 2, 2011.
82,135 | The Hospital of Central Connecticut, The Central Connecticut Health Alliance | New Britain, CT | November 6, 2011.
82,135A | The Hospital of Central Connecticut, The Central Connecticut Health Alliance | Southington, CT | November 6, 2011.
82,139 | Avery Dennison, Retail Branding and Information Solutions Division (RBIS), Adecco | Lenoir, NC | September 3, 2012.
82,139A | Leased Workers From Manpower, Working On-Site At Avery Dennison, Retail Branding and Inform (RBIS) | Lenoir, NC | November 8, 2011.
82,147 | Northwest Publications dba St. Paul Pioneer Press, Subsidiary Medianews Group, Advertising Production Division | Saint Paul, MN | November 9, 2011.
82,150 | Badger Meter, Inc | Milwaukee, WI | April 29, 2012.
82,150A | Teksystems, Working On-Site at Badger Meter, Inc | Milwaukee, WI | November 12, 2011.
82,153 | Solae, LLC, Solae Holdings, G4S Secure, Alpha Mechanical, R&K, Robert P. James | Louisville, KY | November 8, 2011.

The following certifications have been issued. The requirements of Section 222(c) (supplier to a firm whose workers are certified eligible to apply for TAA) of the Trade Act have been met.

TA-W No. | Subject firm | Location | Impact date
82,171 | Pearson Education, Inc., Pearson Imaging Center | Upper Saddle River, NJ | November 21, 2011.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W No. | Subject firm | Location | Impact date
82,100 | NXP Semiconductors, Supply Chain Management Group | San Jose, CA. |

The investigation revealed that the criteria under paragraphs (a)(2)(A) (increased imports) and (a)(2)(B) (shift in production or services to a foreign country) of section 222 have not been met.

TA-W No. | Subject firm | Location | Impact date
81,826 | Konarka Technologies | New Bedford, MA
81,826A | Konarka Technologies | Lowell, MA
82,142 | Axle Tech International, A General Dynamics Company, OshKosh Division | Oshkosh, WI

Determinations Terminating Investigations of Petitions for Worker Adjustment Assistance

After notice of the petitions was published in the Federal Register and on the Department's Web site, as required by Section 221 of the Act (19 U.S.C. 2271), the Department initiated investigations of these petitions.

The following determinations terminating investigations were issued because the petitioning groups of workers are covered by active certifications. Consequently, further investigation in these cases would serve no purpose since the petitioning group of workers cannot be covered by more than one certification at a time.

TA-W No. | Subject firm | Location | Impact date
81,946 | Verizon Business Network Services, Inc., Senior Analyst—Sales Implementation, Service Program Delivery Division | San Francisco, CA. |

I hereby certify that the aforementioned determinations were issued during the period of December 3, 2012 through December 7, 2012. These determinations are available on the Department's Web site tradeact/taa/taa search form.cfm under the searchable listing of determinations or by calling the Office of Trade Adjustment Assistance toll free at 888-365-6822.

Dated: December 12, 2012.
Elliott S. Kushner,
Certifying Officer, Office of Trade Adjustment Assistance.

[FR Doc. 2012-31661 Filed 1-3-13; 8:45 am]

BILLING CODE 4510-FN-P